NATIONAL SCIENCE FOUNDATION

Advisory Committee for Mathematical and Physical Sciences; Notice of Meeting

In accordance with Federal Advisory Committee Act (Pub. L. 92-463, as amended), the National Science Foundation announces the following meeting:

Name: Advisory Committee for Mathematical and Physical Sciences (66).

Date/Time: November 1, 2006 12 Noon-6 p.m.; November 2, 2006 8 a.m.-6p.m.; November 3, 2006 8 a.m.-3 p.m.

Place: National Science Foundation, 4201 Wilson Boulevard, Arlington, VA 22230, Room 1235.

Type of Meeting: Open.

Contact Person: Dr. Morris L. Aizenman, Senior Science Associate, Directorate for Mathematical and Physical Sciences, Room 1005, National Science Foundation, 4201 Wilson Boulevard, Arlington, VA 22230. (703) 292-8807.

Purpose of Meeting: To provide advice and recommendations concerning NSF science and education activities within the Directorate for Mathematical and Physical Sciences.

Agenda: Briefing to new members about NSF and Directorate. Update on current status of Directorate. Meeting with Education and Human Resources Advisory Committee. Meeting of MPSAC with Divisions within MPS Directorate. Report of the Senior Review of the Division of Astronomical Sciences. Discussion of MPS Long-term Planning Activities.

Summary Minutes: May be obtained from the contact person listed above.

Dated: September 28, 2006.
Susanne E. Bolton,
Committee Management Officer.

[FR Doc. 06-8458 Filed 10-2-06; 8:45 am]

BILLING CODE 7555-01-M